ENVIRONMENTAL PROTECTION AGENCY

[FRL-9917-99-OA]

Notification of Two Public Teleconferences of the Science Advisory Board; Chemical Assessment Advisory Committee Augmented for the Review of EPA's Draft Trimethylbenzenes Assessment

AGENCY: Environmental Protection Agency (EPA).

ACTION: Notice.

SUMMARY: The Environmental Protection Agency (EPA) Science Advisory Board (SAB) Staff Office announces two public teleconferences of the SAB Chemical Assessment Advisory Committee Augmented for the Review of the Draft Trimethylbenzenes Assessment (CAAC-TMB Panel) to discuss its draft report concerning EPA's draft Integrated Risk Information System (IRIS) Toxicological Review of Trimethylbenzenes (August 2013 Revised External Review Draft).

DATES: The public teleconferences will be held on Wednesday November 5, 2014 and Friday November 7, 2014. The teleconferences will be held from 1:00 p.m. to 5:00 p.m. (Eastern Standard Time) on both days.

Location: The teleconferences will be conducted by telephone only.

FOR FURTHER INFORMATION CONTACT: Any member of the public who wants further information concerning the teleconferences may contact Mr. Thomas Carpenter, Designated Federal Officer (DFO), EPA Science Advisory Board (1400R), U.S. Environmental Protection Agency, 1300 Pennsylvania Avenue NW., Washington, DC 20460; via telephone/voice mail (202) 564-4885; fax (202) 565-2098; or email at carpenter.thomas@epa.gov. General information concerning the SAB can be found on the SAB Web site at http://www.epa.gov/sab.

SUPPLEMENTARY INFORMATION: Background: Pursuant to the Federal Advisory Committee Act (FACA), as amended, 5 U.S.C., App., notice is hereby given that the SAB CAAC TMB Panel will hold public teleconferences to discuss its draft report regarding the draft IRIS Toxicological Review of Trimethylbenzenes (August 2013 Revised External Review Draft) and enhancements the agency is implementing to the IRIS program. The EPA SAB Staff Office augmented the SAB CAAC with subject matter experts to provide advice through the chartered SAB regarding this IRIS assessment.

The SAB was established pursuant to 42 U.S.C. 4365 to provide independent scientific and technical advice to the Administrator on the technical basis for Agency positions and regulations. The SAB is a Federal Advisory Committee chartered under FACA. The SAB will comply with the provisions of FACA and all appropriate SAB Staff Office procedural policies.

The SAB CAAC TMB Panel held a public meeting on June 17-June 19, 2014. The purpose of that meeting was to receive a briefing on the EPA's enhancements to the IRIS Program and develop responses to the peer review charge on the agency's draft IRIS Toxicological Review of Trimethylbenzenes (August 2013 Revised External Review Draft). The purpose of these public teleconferences is for the Panel to discuss its draft report peer reviewing the agency's draft toxicological review. The two public teleconferences will be conducted as one complete meeting, beginning on November 5, 2014 and continuing on November 7, 2014.

Availability of Meeting Materials: Additional background on this SAB activity, the teleconference agenda, draft report, and other materials for the teleconferences will be posted on the SAB Web site at http://yosemite.epa.gov/sab/sabproduct.nsf/fedrgstr_activites/IRIS%20Trimethylbenzenes?OpenDocument.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to EPA. Members of the public can submit relevant comments pertaining to the group conducting this SAB activity or meeting materials. Input from the public to the SAB will have the most impact if it consists of comments that provide specific scientific or technical information or analysis for the SAB to consider. Members of the public wishing to provide comment should contact the Designated Federal Officer for the relevant advisory committee directly.

Oral Statements: In general, individuals or groups requesting an oral presentation at a public teleconference will be limited to three minutes per speaker. To be placed on the public speaker list for the November 5, 2014 teleconferences, interested parties should notify Mr. Thomas Carpenter, DFO, by email no later than October 28, 2012.

Written Statements: Written statements for these teleconferences should be received in the SAB Staff Office by the same deadlines given above for requesting oral comments. Written statements should be supplied to the DFO via email (acceptable file format: Adobe Acrobat PDF, MS Word, WordPerfect, MS PowerPoint, or Rich Text files in IBM-PC/Windows 98/2000/XP format). It is the SAB Staff Office general policy to post written comments on the Web page for the advisory meeting or teleconference. Submitters are requested to provide an unsigned version of each document because the SAB Staff Office does not publish documents with signatures on its Web sites. Members of the public should be aware that their personal contact information, if included in any written comments, may be posted to the SAB Web site. Copyrighted material will not be posted without explicit permission of the copyright holder.

Accessibility: For information on access or services for individuals with disabilities, please contact Mr. Carpenter at the phone number or email address noted above, preferably at least ten days prior to the teleconferences, to give the EPA as much time as possible to process your request.

Dated: October 7, 2014.
Thomas H. Brennan,
Deputy Director, EPA Science Advisory Board Staff Office.

[FR Doc. 2014-24744 Filed 10-16-14; 8:45 am]

BILLING CODE 6560-50-P